ENVIRONMENTAL PROTECTION AGENCY

40 CFR Part 63

[AD-FRL-6768-2]

RIN 2060-AH47

National Emission Standards for Hazardous Air Pollutant Emissions: Group IV Polymers and Resins

AGENCY: Environmental Protection Agency (EPA).

ACTION: Final rule; amendment.

SUMMARY: The EPA is issuing this final rule amendment to indefinitely stay the current compliance date of February 27, 2001, for the provisions pertaining to process contact cooling towers (PCCT) for existing affected sources producing poly (ethylene terephthalate) (PET) using the continuous terephthalic acid (TPA) high viscosity multiple end finisher process. On August 29, 2000, the EPA issued a direct final rule (65 FR 52319) and a parallel proposal (65 FR 52392) to stay the compliance date indefinitely because the EPA is in the process of responding to a request to reconsider relevant portions of the rule which may result in changes to the emission limitation applying to PCCT in this subcategory.

On September 20, 2000, the EPA received an adverse comment on the direct final rule for an indefinite stay of compliance. Therefore, the EPA withdrew the direct final rule (65 FR 64161; October 26, 2000). After considering the comments received, the EPA is promulgating the indefinite stay of compliance through this amendment.

EFFECTIVE DATE: February 23, 2001.

ADDRESSES: A docket, No. A-92-45, containing information considered by the EPA in the development of the standards for the Group IV Polymers and Resins, is available for public inspection and copying between 8 a.m. and 5 p.m., Monday through Friday, at the EPA's Air and Radiation Docket and Information Center, Waterside Mall, Room M-1500, first floor, 401 M Street, SW, Washington, DC 20460.

FOR FURTHER INFORMATION CONTACT: Mr. Robert E. Rosensteel, US EPA, Office of Air Quality Planning and Standards, Research Triangle Park, NC 27711, telephone (919) 541-5608, fax (919) 541-3470, and electronic mail: rosensteel.bob@epa.gov.

SUPPLEMENTARY INFORMATION: Docket. The docket is an organized and complete file of all the information considered in the development of this rulemaking. The docket is a dynamic file because material is added throughout the rulemaking process. The docketing system is intended to allow members of the public and industries involved to readily identify and locate documents so that they can effectively participate in the rulemaking process. Along with the proposed and promulgated standards and their preambles, the contents of the docket will serve as the record in the case of judicial review. (See section 307(d)(7)(A) of the Clean Air Act (CAA).) The regulatory text and other materials related to this rulemaking are available for review in the docket or copies may be mailed on request from the Air Docket by calling (202) 260-7548. A reasonable fee may be charged for copying docket materials.

World Wide Web (WWW). In addition to being available in the docket, an electronic copy of today's action will also be available on the WWW through the Technology Transfer Network (TTN). Following the Administrator's signature, a copy of the rule will be posted on the TTN's policy and guidance page for newly proposed or promulgated rules http://www.epa.gov/ttn/oarpg. The TTN provides information and technology exchange in various areas of air pollution control. If more information regarding the TTN is needed, call the TTN HELP line at (919) 541-5384.

Regulated Entities. The regulated category and entities affected by this action include:

Category | SIC | NAICS | Examples of regulated entities
Industry | 2821 | 325211 | Facilities that produce PET using the continuous TPA high viscosity multiple end finisher process.

This table is not intended to be exhaustive but, rather, provides a guide for readers likely to be interested in this action. To determine whether your facility is affected by this action, you should carefully examine all of the applicability criteria in 40 CFR part 63, subpart JJJ. If you have any questions regarding the applicability of this final rule amendment to a particular entity, consult the person listed in the preceding FOR FURTHER INFORMATION CONTACT section.

I. Background

On August 29, 2000, we proposed to indefinitely stay the compliance date specified in 40 CFR 63.1311(c) for the provisions contained in 40 CFR 63.1329 for existing affected sources producing PET using the continuous TPA high viscosity multiple end finisher process. The proposed indefinite stay applied only to the PCCT emission limitation at existing affected sources. It did not affect any other provisions of the rule applying to this subcategory or any other subcategories.

We proposed this indefinite stay of the compliance date because the EPA is in the process of responding to a request to reconsider relevant portions of the rule which may result in changes to the emission limitation applying to PCCT in this subcategory, and it is unlikely that the reconsideration process will be complete before actions are necessary to comply with the current PCCT standard. We intend to complete our reconsideration of the rule and take appropriate action as expeditiously as practical. Following our reconsideration of the rule, we will establish a new compliance date for the provisions contained in 40 CFR 63.1329. For these reasons, we are providing an indefinite stay of the compliance date.

We received one adverse comment letter on the proposed indefinite stay, a follow-up letter from the same commenter, and one favorable comment letter. On August 29, 2000, we also issued a parallel direct final rule (65 FR 52319). Because we received an adverse comment, we withdrew the direct final rule on October 26, 2000 (65 FR 64161). In this final amendment, we are addressing the adverse comment and promulgating the proposed rule as presented in the August 29, 2000, Federal Register notice without modification.

II. What Does the Final Rule Say?

We are issuing an indefinite stay of the existing source compliance date associated with the PCCT standard for the Group IV Polymers and Resins National Emission Standards for Hazardous Air Pollutant (NESHAP) Emissions (40 CFR 63.1311(c), subpart JJJ) for existing affected sources producing PET using the continuous TPA high viscosity multiple end finisher process.

III. What Are the Major Comments and Responses to Those Comments?

We received one adverse comment which objected to the “open-ended” aspect of the stay. The commenter stated that the EPA must establish a “firm” date for the indefinite stay and the completion of its consideration of KoSa's petition for reconsideration.

After receiving the adverse comment, we discussed with the commenter their concerns regarding the “open-ended” nature of the stay. We explained, as we had stated in the proposal, that we could not set a firm date at this time because it was unclear when our reconsideration of the pending administrative petitions would conclude. We stated that we planned to set a firm date once we completed the reconsideration. The commenter submitted a second comment letter withdrawing its objection to the proposed stay. We also received one comment supporting an indefinite stay.

IV. What Are the Changes Since Proposal?

No changes have been made to the proposed indefinite stay (65 FR 52392). Thus, this final rule amendment is identical to that presented in the proposed rule.

V. What Are the Impacts of the Final Rule?

This indefinite stay affects a single facility. We do not believe that this stay will, as a practical matter, affect the overall effectiveness of the Group IV Polymers and Resins NESHAP.

VI. Administrative Requirements

A. Executive Order 12866, Regulatory Planning and Review

Under Executive Order 12866 (58 FR 51735, October 4, 1993), the EPA must determine whether the regulatory action is “significant” and therefore subject to review by the Office of Management and Budget (OMB) on the basis of the requirements of the Executive Order in addition to its normal review requirements. The Executive Order defines “significant regulatory action” as one that is likely to result in a rule that may:

(1) have an annual effect on the economy of $100 million or more or adversely affect in a material way the economy, a sector of the economy, productivity, competition, jobs, the environment, public health or safety, or State, local, or tribal governments or communities;

(2) create a serious inconsistency or otherwise interfere with an action taken or planned by another agency;

(3) materially alter the budgetary impact of entitlements, grants, user fees, or loan programs or the rights and obligations of recipients thereof; or

(4) raise novel legal or policy issues arising out of legal mandates, the President's priorities, or the principles set forth in the Executive Order.

Today's action does not fall within any of the four categories described above and, therefore, does not constitute a “significant regulatory action” within the meaning of Executive Order 12866 and was not required to be reviewed by OMB.

B. Executive Order 13132, Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This final rule amendment does not have federalism implications. It will not have substantial direct effects on the States, on the relationship between the national government and the States, or on the distribution of power and responsibilities among the various levels of government, as specified in Executive Order 13132. This is because the final action applies to affected sources in the PET facilities, not to States or local governments. Nor will State law be preempted, or any mandates be imposed on States or local governments. Thus, the requirements of section 6 of the Executive Order do not apply to this final action.

C. Executive Order 13084, Consultation and Coordination With Indian Tribal Governments

Under Executive Order 13084, we may not issue a regulation that is not required by statute, that significantly or uniquely affects the communities of Indian tribal governments, and that imposes substantial direct compliance costs on those communities unless the Federal government provides the funds necessary to pay the direct compliance costs incurred by the tribal governments, or we consult with those governments. If we comply by consulting, we are required by Executive Order 13084 to provide to the OMB in a separately identified section of the preamble to the rule, a description of the extent of our prior consultation with representatives of affected tribal governments, a summary of the nature of their concerns, and a statement supporting the need to issue the regulation. In addition, Executive Order 13084 requires us to develop an effective process permitting elected officials and other representatives of Indian tribal governments “to provide meaningful and timely input in the development of regulatory policies on matters that significantly or uniquely affect their communities.”

Today's final action does not significantly or uniquely affect the communities of Indian tribal governments because they do not own or operate any of the sources affected by this rule. Accordingly, the requirements of section 3(b) of Executive Order 13084 do not apply to this action.

D. Executive Order 13045, Protection of Children From Environmental Health Risks and Safety Risks

Executive Order 13045: “Protection of Children from Environmental Health Risks and Safety Risks” (62 FR 19885, April 23, 1997) applies to any rule that: (1) Is determined to be “economically significant” as defined under Executive Order 12866, and (2) concerns an environmental health or safety risk that we have reason to believe may have a disproportionate effect on children. If the regulatory action meets both criteria, the Agency must evaluate the environmental health or safety effects of the planned rule on children, and explain why the planned regulation is preferable to other potentially effective and reasonably feasible alternatives considered by the Agency.

The EPA interprets Executive Order 13045 as applying only to those regulatory actions that are based on health or safety risks, such that the analysis required under section 5-501 of the Executive Order has the potential to influence the regulation. This action is not subject to Executive Order 13045 because it is not an economically significant regulatory action as defined in Executive Order 12866, and it is based on technology performance and not on health or safety risks.

E. Unfunded Mandates Reform Act of 1995

Title II of the Unfunded Mandates Reform Act of 1995 (UMRA), Public Law 104-4, establishes requirements for Federal agencies to assess the effects of their regulatory actions on State, local, and tribal governments and the private sector. Under section 202 of the UMRA, we must generally prepare a written statement, including a cost-benefit analysis, for proposed and final rules with “Federal mandates” that may result in expenditures to State, local, and tribal governments, in the aggregate, or to the private sector, of $100 million or more in any 1 year. Before promulgating a rule for which a written statement is needed, section 205 of the UMRA generally requires us to identify and consider a reasonable number of regulatory alternatives and adopt the least-costly, most cost-effective, or least-burdensome alternative that achieves the objectives of the rule. The provisions of section 205 do not apply when they are inconsistent with applicable law. Moreover, section 205 allows us to adopt an alternative other than the least-costly, most cost-effective, or least-burdensome alternative if the Administrator publishes with the final rule an explanation why that alternative was not adopted. Before we establish any regulatory requirements that may significantly or uniquely affect small governments, including tribal governments, it must have developed under section 203 of the UMRA a small government agency plan. The plan must provide for notifying potentially affected small governments, enabling officials of affected small governments to have meaningful and timely input in the development of our regulatory proposals with significant Federal intergovernmental mandates, and informing, educating, and advising small governments on compliance with the regulatory requirements.

The EPA has determined that today's action does not contain a Federal mandate that may result in expenditures of $100 million or more for State, local, and tribal governments, in the aggregate, or the private sector in any 1 year. Instead, this rule amendment provides additional time to comply with certain requirements of the Group IV Polymers and Resins NESHAP. Thus, today's action is not subject to the requirements of sections 202 and 205 of the UMRA.

We also have determined that this action contains no regulatory requirements that might significantly or uniquely affect small governments. This rule does not impose any enforceable duties on small governments, i.e., they own or operate no sources subject to this rule and, therefore, are not required to purchase control systems to meet the requirements of this rule.

F. Regulatory Flexibility Act (RFA), as Amended by the Small Business Regulatory Enforcement Fairness Act of 1996, 5 U.S.C. 601 et seq.

The EPA has determined that it is not necessary to prepare a regulatory flexibility analysis in connection with this final rule amendment. The EPA also has determined that this rule amendment will not have a significant impact on a substantial number of small entities. Only one entity is subject to the PCCT standard, and it is not a small entity. In addition, this rule amendment will relieve regulatory burden for the entity subject to the PCCT standard.

G. Paperwork Reduction Act

For the Group IV Polymers and Resins NESHAP, the information collection requirements were submitted to the OMB under the Paperwork Reduction Act. The OMB approved the information collection requirements and assigned OMB control number 2060-0351. An Agency may not conduct or sponsor, and a person is not required to respond to, a collection of information unless it displays a currently valid OMB control number. The OMB control numbers for the EPA's regulations are listed in 40 CFR part 9 and 48 CFR chapter 15. The EPA has amended 40 CFR part 9, section 9.1, to indicate the information collection requirements contained in the Group IV Polymers and Resins NESHAP.

Today's action has no impact on the information collection burden estimates made previously. Therefore, the Information Collection Request has not been revised.

H. National Technology Transfer and Advancement Act of 1995

Section 12(d) of the National Technology Transfer and Advancement Act of 1995 (NTTAA), Public Law 104-113, (15 U.S.C. 272 note), directs all Federal agencies to use voluntary consensus standards instead of government-unique standards in their regulatory activities unless to do so would be inconsistent with applicable law or would be otherwise impractical. Voluntary consensus standards are technical standards (e.g., material specifications, test method, sampling and analytical procedures, business practices, etc.) that are developed or adopted by one or more voluntary consensus standards bodies. Examples of organizations generally regarded as voluntary consensus standards bodies include the American Society for Testing and Materials, the National Fire Protection Association, and the Society of Automotive Engineers. The NTTAA requires Federal agencies like the EPA to provide Congress, through OMB, with explanations when the EPA decides not to use available and applicable voluntary consensus standards. This action does not involve technical standards.

I. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This final rule will be effective on February 23, 2001.

List of Subjects in 40 CFR Part 63

Environmental protection, Administrative practice and procedure, Air pollution control, Hazardous substances, Intergovernmental relations, Reporting and recordkeeping requirements.

Dated: January 19, 2001.
Carol M. Browner,
Administrator.

Title 40 of the Code of Federal Regulations, chapter I, part 63, subpart JJJ is being amended as follows:

PART 63—NATIONAL EMISSION STANDARDS FOR HAZARDOUS AIR POLLUTANTS FOR SOURCE CATEGORIES

1. The authority citation for part 63 continues to read as follows:

Authority: 42 U.S.C. 7401 et seq.

Subpart JJJ—National Emission Standards for Hazardous Air Pollutant Emissions: Group IV Polymers and Resins

2. Amend § 63.1311 by revising paragraph (c) to read as follows:

§ 63.1311 Compliance dates and relationship of this subpart to applicable rules.

* * * * *

(c) Existing affected sources shall be in compliance with this subpart (except for § 63.1331 for which compliance is covered by paragraph (d) of this section) no later than June 19, 2001, as provided in § 63.6(c), unless an extension has been granted as specified in paragraph (e) of this section, except that the compliance date for the provisions contained in § 63.1329 is extended to February 27, 2001, for existing affected sources whose primary product, as determined using the procedures specified in § 63.1310(f), is PET using a continuous terephthalic acid high viscosity multiple end finisher process.

[Note to paragraph (c): The compliance date of February 27, 2001 for the provisions of § 63.1329 for existing affected sources whose primary product, as determined using the procedures specified in 63.1310(f), is PET using a continuous terephthalic acid high viscosity multiple end finisher process is stayed indefinitely. The EPA will publish a document in the Federal Register establishing a new compliance date for these sources.]

* * * * *

[FR Doc. 01-2220 Filed 2-22-01; 8:45 am]

BILLING CODE 6560-50-P